DEPARTMENT OF HEALTH AND HUMAN SERVICES

National Institutes of Health

Center for Scientific Review; Amended Notice of Meeting

Notice is hereby given of a change in the meeting of the Cellular and Molecular Biology of Neurodegeneration Study Section, June 22, 2023, 8:30 a.m. to June 23, 2023, 5:00 p.m. at the Ritz-Carlton Hotel, 1700 Tysons Boulevard, McLean, VA 22102, which was published in the Federal Register on May 24, 2023, 88 FR 33619, Doc 2023-11074.

This meeting is being amended to change the end time from 5:00 p.m. to 7:00 p.m. The meeting is closed to the public.

Dated: June 1, 2023.
Miguelina Perez,
Program Analyst, Office of Federal Advisory Committee Policy.

[FR Doc. 2023-12086 Filed 6-5-23; 8:45 am]

BILLING CODE 4140-01-P